DEPARTMENT OF AGRICULTURE

Foreign Agricultural Service

Trade Adjustment Assistance for Farmers

AGENCY: Foreign Agricultural Service, USDA.

ACTION: Notice.

The Administrator, Foreign Agricultural Service (FAS), today terminated the certification of a petition for trade adjustment assistance (TAA) that was filed by a group of Indiana fresh cut snapdragon producers. Indiana fresh cut snapdragon producers are no longer eligible for TAA benefits in fiscal year 2007.

SUPPLEMENTARY INFORMATION: Upon investigation, the Administrator determined that U.S. producer prices for Indiana fresh cut snapdragon were 13 percent higher than the base five-year average price. Therefore, producer prices were no longer a contributing factor for program eligibility—a requirement for TAA program eligibility and therefore insufficient grounds to re-certify this petition.

FOR FURTHER INFORMATION CONTACT: Jean-Louis Pajot, Coordinator, Trade Adjustment Assistance for Farmers, FAS, USDA, (202) 720-2916, e-mail: trade.adjustment@fas.usda.gov.

Dated: January 17, 2007.
Michael W. Yost,
Administrator, Foreign Agricultural Service.

[FR Doc. E7-1573 Filed 1-31-07; 8:45 am]

BILLING CODE 3410-10-P